DEPARTMENT OF ENERGY

Federal Energy Regulatory Commission

[Docket No. AD16-17-000]

Reactive Supply Compensation in Markets Operated by Regional Transmission Organizations and Independent System Operators; Supplemental Notice of Workshop

As announced in the Notice of Workshop issued on March 17, 2016, in the above-captioned proceeding,¹ Federal Energy Regulatory Commission (Commission) staff will convene a workshop on June 30, 2016, from 12:00 p.m. (EDT) to 4:00 p.m. (EDT) in the Commission Meeting Room at 888 First Street NE., Washington, DC 20426. The workshop will be open to the public, and all interested parties are invited to attend and participate. The workshop will be led by Commission staff, and may be attended by one or more Commissioners.

¹ Reactive Supply Compensation in Markets Operated by Regional Transmission Organizations and Independent System Operators, Docket No. AD16-17-000 (Mar. 17, 2016) (Notice of Workshop).

The purpose of the workshop is to discuss compensation for Reactive Supply and Voltage Control (Reactive Supply) within the Regional Transmission Organizations (RTOs) and Independent System Operators (ISOs). Specifically, the workshop will explore the types of costs incurred by generators for providing Reactive Supply capability and service; whether those costs are being recovered solely as compensation for Reactive Supply or whether recovery is also through compensation for other services; and different methods by which generators receive compensation for Reactive Supply (e.g., Commission-approved revenue requirements, market-wide rates, etc.). The workshop will also explore potential adjustments in compensation methods based on changes in Reactive Supply capability and potential mechanisms to prevent overcompensation for Reactive Supply.

Attached to this supplemental notice is an agenda for the workshop, including Reactive Supply compensation topics to be considered for discussion at the workshop. Questions that speakers should be prepared to discuss are grouped by topic.

Discussions at the workshop may involve issues raised in proceedings that are pending before the Commission. These proceedings include, but are not limited to:

ISO New England Inc | Docket No. ER16-946-001.
Garrison Energy Center, LLC | Docket No. ER15-2735-000.
Newark Energy Center, LLC | Docket Nos. ER15-1706-001, EL15-97-000.
Scrubgrass Generating Company, L.P | Docket No. ER15-2254-000.
CPV Shore, LLC | Docket Nos. ER15-2589-000, EL16-4-000.
C.P. Crane LLC | Docket Nos. ER16-259-000, ER16-332-000, EL16-21-000.
GenOn Energy Management, LLC | Docket Nos. ER15-2571-000, ER15-2572-000, ER15-2573-000.
NRG Wholesale Generation LP | Docket Nos. ER16-413-000, ER04-1164-001, EL16-28-000.
Talen Energy Marketing, LLC | Docket Nos. ER16-277-000, ER16-277-001, ER16-277-002, ER16-277-003, EL16-44-000, EL16-44-001, ER08-1462-001, EL16-32-000, ER16-1456-000.
Constellation Power Source Generation, LLC | Docket Nos. ER16-746-000, ER16-746-001.
New Covert Generating Company, LLC | Docket No. ER16-1226-000.
Panda Liberty LLC | Docket No. ER16-1256-001.
Roundtop Energy LLC | Docket No. ER16-1004-000.
Beaver Dam Energy LLC | Docket Nos. ER16-1032-000, EL16-51-000.
FirstEnergy Solutions Corp | Docket Nos. ER15-1510-000, ER15-1510-001.
Duke Energy Indiana, Inc | Docket Nos. ER16-200-000, ER16-201-000, ER16-200-002.
Wabash Valley Power Association, Inc | Docket Nos. ER16-435-001, ER16-444-001.
Consumers Energy Company | Docket No. ER16-1058-000.
MidAmerican Energy Company | Docket No. ER16-1062-000.
Indiana Municipal Power Agency | Docket No. EL16-14-000.
BIF III Holtwood LLC | Docket No. ER16-1530-000.
Seward Generation, LLC | Docket No. ER16-1344-000.
Northampton Generating Company, L.P | Docket No. ER13-1431-001.

This workshop will be transcribed and webcast. Transcripts of the workshop will be available for a fee from Ace-Federal Reporters, Inc. at (202) 347-3700. A free webcast of this event will be available through www.ferc.gov. Anyone with internet access who wants to view this event can do so by navigating to the Calendar of Events at www.ferc.gov and locating this event in the Calendar. The event will contain a link to its webcast. The Capitol Connection provides technical support for webcasts and offers the option of listening to the workshop via phone-bridge for a fee. If you have any questions, visit www.CapitolConnection.org or call (703) 993-3100. Those interested in attending the workshop or viewing the webcast are encouraged to register at https://www.ferc.gov/whats-new/registration/06-30-16-form.asp.

Commission workshops are accessible under section 508 of the Rehabilitation Act of 1973. For accessibility accommodations, please send an email to accessibility@ferc.gov, call (866) 208-3372 (toll free) or (202) 208-8659 (TTY), or send a FAX to (202) 208-2106 with the required accommodations.

Those who wish to file written comments may do so by July 28, 2016. The Commission strongly encourages electronic filing. Please file comments using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number AD16-17-000.

All comments will be placed in the Commission's public files and will be available for review at the Commission in the Public Reference Room or may be viewed on the Commission's Web site at www.ferc.gov using the eLibrary link. Enter AD16-17-000 in the docket number field to access documents. For assistance, please contact FERC Online Support.

For more information about this workshop, please contact:

Sam Wellborn (Technical Information), Office of Energy Market Regulation—East, Federal Energy Regulatory Commission, 888 First Street NE., Washington, DC 20426, (202) 502-6288, samuel.wellborn@ferc.gov.

Gretchen Kershaw (Legal Information), Office of the General Counsel, Federal Energy Regulatory Commission, 888 First Street NE., Washington, DC 20426, (202) 502-8213, gretchen.kershaw@ferc.gov.

Sarah McKinley (Logistical Information), Office of External Affairs, Federal Energy Regulatory Commission, 888 First Street NE., Washington, DC 20426, (202) 502-8004, sarah.mckinley@ferc.gov.

Dated: May 19, 2016.
Kimberly D. Bose,
Secretary.

[FR Doc. 2016-12421 Filed 5-25-16; 8:45 am]

BILLING CODE 6717-01-P